DEPARTMENT OF COMMERCE

National Oceanic and Atmospheric Administration

[I.D. 090602A]

Marine Mammals; File No. 779-1681

AGENCY: National Marine Fisheries Service (NMFS), National Oceanic and Atmospheric Administration (NOAA), Commerce.

ACTION: Issuance of permit.

SUMMARY: Notice is hereby given that NMFS, Southeast Fisheries Science Center, 75 Virginia Beach Drive, Miami, FL 33149 (Principal Investigator: Dr. Aleta A. Hohn) has been issued a permit to take Atlantic bottlenose dolphins (Tursiops truncatus) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Northeast Region, NMFS, Protected Resources Division, One Blackburn Drive, Gloucester, MA 01930-2298; phone (978) 281-9346; fax (978) 281-9371;

Southeast Region, NMFS, Protected Resources Division, 9721 Executive Center Drive North, St. Petersburg, FL 33702-2432; phone (813) 570-5312; fax (813) 570-5517.

FOR FURTHER INFORMATION CONTACT: Carrie Hubard or Ruth Johnson, (301)713-2289.

SUPPLEMENTARY INFORMATION: On July 22, 2002, notice was published in the Federal Register (67 FR 47775) that a request for a scientific research permit to take bottlenose dolphins had been submitted by the above-named organization. The requested permit has been issued under the authority of the Marine Mammal Protection Act of 1972, as amended (16 U.S.C. 1361 et seq.), and the Regulations Governing the Taking and Importing of Marine Mammals (50 CFR part 216).

The permit authorizes a maximum of 500 individual dolphins to be captured, examined, sampled, marked, and released during the 5 year period of the permit. Captures will take place in inshore and nearshore waters from New York to the Texas/Mexico border. As part of the research, the captured bottlenose dolphins will be sampled for genetic and isotope analyses, photographed for photo-identification and will have transmitters attached. The impetus for the research is the need to define the stock structure of western North Atlantic bottlenose dolphins. The project is a continuation of research begun in 1997 to elucidate stock structure using multiple methods and to test the hypothesis of one coastal migratory stock of bottlenose dolphins along the Atlantic coast of the U.S.

Dated: September 9, 2002.
Eugene T. Nitta,
Acting Chief, Permits, Conservation and Education Division, Office of Protected Resources, National Marine Fisheries Service.

[FR Doc. 02-23399 Filed 9-12-02; 8:45 am]

BILLING CODE 3510-22-S